DEPARTMENT OF HEALTH AND HUMAN SERVICES

National Institutes of Health

National Cancer Institute; Cancellation of Meeting

Notice is hereby given of the cancellation of the National Cancer Institute Special Emphasis Panel, National Cancer Institute Special Emphasis Panel; SEP-9: NCI Clinical and Translational Cancer Research, October 26, 2023, 12:00 p.m. to October 26, 2023, 4:00 p.m., National Cancer Institute Shady Grove, 9609 Medical Center Drive, Room 7W104, Rockville, Maryland 20850 which was published in the Federal Register on July 28, 2023, FR Doc 2023-15995, 88 FR 48898.

This meeting is cancelled and will be rescheduled.

Dated: August 7, 2023.
Melanie Pantoja,
Program Analyst, Office of Federal Advisory Committee Policy.

[FR Doc. 2023-17186 Filed 8-9-23; 8:45 am]

BILLING CODE 4140-01-P